DEPARTMENT OF COMMERCE

National Oceanic and Atmospheric Administration

RIN 0648-XC20

Atlantic Highly Migratory Species; Meeting of the Atlantic Highly Migratory Species Advisory Panel

AGENCY: National Marine Fisheries Service (NMFS), National Oceanic and Atmospheric Administration (NOAA), Commerce.

ACTION: Notice of public meeting and a scoping meeting.

SUMMARY: NMFS will hold a 3-day Highly Migratory Species (HMS) Advisory Panel (AP) meeting in October 2007. The intent of the meeting is to consider options for the conservation and management of Atlantic HMS. This meeting will also double as a scoping meeting to consider options for updating HMS essential fish habitat (EFH). The meeting is open to the public.

DATES: The AP meeting will be held from 1 p.m. to 5 p.m. on Tuesday, October 2, 2007, from 8 a.m. to 5 p.m. on Wednesday, October 3, 2007, and from 8 a.m. to 3:30 p.m. on Thursday, October 4, 2007.

ADDRESSES: The meeting will be held at the NOAA Science Center, 1305 East West Highway, Silver Spring, MD 20910.

FOR FURTHER INFORMATION CONTACT: Carol Douglas or Chris Rilling at 301-713-2347.

SUPPLEMENTARY INFORMATION: The Magnuson-Stevens Fishery Conservation and Management Act (Magnuson-Stevens Act), 16 U.S.C. 1801 et seq., as amended by the Sustainable Fisheries Act, Public Law 104-297, provided for the establishment of an AP to assist in the collection and evaluation of information relevant to the development of any Fishery Management Plan (FMP) for HMS. NMFS consults with and considers the comments and views of AP members when preparing and implementing FMPs or FMP amendments for Atlantic tunas, swordfish, billfish, and sharks. The AP has previously consulted with NMFS on: the HMS FMP (April 1999), Amendment 1 to the HMS FMP (December 2003), Amendment 1 to the Billfish FMP (April 1999), and the Consolidated Atlantic HMS FMP (October 2006). The October 2007 AP meeting will focus on conservation and management options for Atlantic tunas, swordfish, billfish, and sharks. Topics for discussion will include, among others, Amendment 1 to update EFH, Amendment 2 to revise shark management measures, a proposed rule for the 2008 first trimester shark season, greenstick gear, and bluefin tuna specifications. NMFS will also be soliciting ideas for other topics covered in Amendment 1 including Habitat Areas of Particular Concern (HAPCs) and fishing and non-fishing impacts on EFH.

Special Accommodations

This meeting is physically accessible to people with disabilities. Requests for sign language interpretation or other auxiliary aids should be directed to Carol Douglas at (301) 713-2347, at least 7 days prior to the meeting.

Authority: 16 U.S.C. 971 et seq. and 1801 et seq.

Dated: August 22, 2007.
Emily H. Menashes,
Acting Director, Office of Sustainable Fisheries, National Marine Fisheries Service.

[FR Doc. E7-17016 Filed 8-27-07; 8:45 am]

BILLING CODE 3510-22-S